DEPARTMENT OF TRANSPORTATION

Federal Aviation Administration

14 CFR Part 39

[Docket No. FAA-2006-24588; Directorate Identifier 2006-SW-07-AD; Amendment 39-14581; AD 2006-09-10]

RIN 2120-AA64

Airworthiness Directives; Eurocopter France Model SA-365 N1, AS-365 N2, N3, SA 366 G1, and EC-155B and B1 Helicopters

AGENCY: Federal Aviation Administration, DOT.

ACTION: Final rule; request for comments.

SUMMARY: This amendment adopts a new airworthiness directive (AD) for the specified Eurocopter France (Eurocopter) Model SA-365 N1, AS-365 N2, N3, SA 366 G1, and EC-155B and B1 helicopters. This action requires a one-time inspection for end play in the pitch control rod assembly double bearing (bearing) using the tail rotor (T/R) hub control plate, and before further flight, replacing the bearing if end play is present. This amendment is prompted by one incident in which a pilot lost T/R pitch control of a helicopter while landing. The actions specified in this AD are intended to detect damage to the bearing, resulting in end play and prevent loss of T/R pitch control and subsequent loss of control of the helicopter.

DATES: Effective May 18, 2006.

The incorporation by reference of certain publications listed in the regulations is approved by the Director of the Federal Register as of May 18, 2006.

Comments for inclusion in the Rules Docket must be received on or before July 3, 2006.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this AD from American Eurocopter Corporation, 2701 Forum Drive, Grand Prairie, Texas 75053-4005, telephone (972) 641-3460, fax (972) 641-3527.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION: This amendment adopts a new AD for Eurocopter Model SA-365 N1, AS-365 N2, N3, SA 366 G1, and EC-155B and B1 helicopters. This action requires, within 50 hours time-in-service (TIS), a one-time inspection of the T/R hub control plate for end play in the bearing, and if end play is present, replacing the bearing before further flight. This amendment is prompted by one incident in which a pilot lost T/R pitch control of a helicopter while landing. The loss of the T/R pitch control was due to significant damage to the bearing of the control rod in the tail gearbox. This condition, if not detected, could result in loss of T/R pitch control and subsequent loss of control of the helicopter.

The European Aviation Safety Agency (EASA) notified us that an unsafe condition may exist on Eurocopter France Model AS 365 N, SA 366, and EC 155 helicopters. EASA advises that the loss of pitch control is due to significant damage to the bearing of the control rod in the tail gearbox.

Eurocopter has issued Alert Service Bulletin (ASB) No. 05.00.52, applicable to the Model 365 N1, N2, and N3 helicopters; ASB No. 05.36, applicable to Model 366 G1 helicopters; and ASB No. 05A013, applicable to Model EC-155B and B1 helicopters, all dated February 15, 2006, and all of which specify a check at regular intervals to ensure there is no end play in the bearing of the T/R pitch control rod. EASA classified this ASB as mandatory and issued AD No. 2006-0051-E, dated February 20, 2006, to ensure the continued airworthiness of these helicopters in France. This AD does not require repetitive inspections because helicopters in this fleet do not normally accrue enough flight hours in a short period of time to justify issuing an immediately adopted final rule requiring repetitive inspections without allowing the public time to first comment on such a proposal. We may issue further AD action at a later date to propose repetitive 110-hours TIS inspections.

This helicopter model is manufactured in France and is type certificated for operation in the United States under the provisions of Sec. 21.29 of the Federal Aviation Regulations (14 CFR 21.29) and the applicable bilateral agreement. Under this agreement, EASA has kept the FAA informed of the situation described above. We have examined EASA's findings, evaluated all pertinent information, and determined that AD action is necessary for products of this type design that are certificated for operation in the United States.

This unsafe condition is likely to exist or develop on other helicopters of the same type designs. Therefore, this AD is being issued to detect damage to the bearing, resulting in end play and prevent loss of T/R pitch control and subsequent loss of control of the helicopter. This AD requires, within 50 hours TIS, a one-time inspection of the T/R hub control plate for end play in the bearing, and if end play is present, replacing the bearing before further flight. Accomplish the actions by following the specified portions of the ASB described previously.

The short compliance time involved is required because the previously described critical unsafe condition can adversely affect the controllability of the helicopter. Therefore, inspecting for end play in the bearing is required within 50 hours TIS and replacing the bearing, if necessary, is required before further flight and this AD must be issued immediately. This AD is an interim action until Eurocopter completes bench tests to analyze the effect of the oil level, associated with pitch control loads, on the behavior of the bearing.

Since a situation exists that requires the immediate adoption of this regulation, it is found that notice and opportunity for prior public comment hereon are impracticable, and that good cause exists for making this amendment effective in less than 30 days.

We estimate that this AD will affect 137 helicopters. The one-time inspection will take approximately 1 work hour, and replacing the bearing, if needed, will take approximately 8 work hours to accomplish at an average labor rate of $80 per work hour. Required parts will cost approximately $2,026 per helicopter. Based on these figures, the total cost impact of the AD on U.S. operators is $365,242, assuming the bearing is replaced on the entire fleet.

Comments Invited

This AD is a final rule that involves requirements that affect flight safety and was not preceded by notice and an opportunity for public comment; however, we invite you to submit any written data, views, or arguments regarding this AD. Send your comments to an address listed under ADDRESSES. Include “Docket No. FAA-2006-24588; Directorate Identifier 2006-SW-07-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78), or you may visit http://dms.dot.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-09-10 Eurocopter France: Amendment 39-14581. Docket No. FAA-2006-24588; Directorate Identifier 2006-SW-07-AD.

Applicability: Model SA-365 N1, AS-365 N2, N3, SA 366 G1, and EC-155B and B1 helicopters, with a tail rotor (T/R) pitch control rod assembly double bearing (bearing) installed, certificated in any category.

Compliance: Required as indicated, unless accomplished previously.

To detect damage to the bearing resulting in end play and to prevent loss of T/R pitch control and subsequent loss of control of the helicopter:

(a) Within 50 hours time-in-service, inspect the T/R hub control plate for end play in the bearing in accordance with paragraph 2.B., Operational Procedure, in Eurocopter Alert Service Bulletin No. 05.00.52, applicable to Model SA-365 N1 and AS-365 N2 and N3 helicopters; No. 05.36, applicable to Model SA 366 G1 helicopters; and No. 05A013, applicable to Model EC-155B and B1 helicopters, dated February 15, 2006 (ASBs).

(b) If end play is present, before further flight, replace the bearing with an airworthy bearing. You are not required to contact the manufacturer to meet the requirements of this AD.

(c) To request a different method of compliance or a different compliance time for this AD, follow the procedures in 14 CFR 39.19. Contact the Manager, Regulations Group, Rotorcraft Directorate, FAA, ATTN: Uday Garadi, 2601 Meacham Blvd., Fort Worth, Texas, 76193, telephone (817) 222-5123, fax (817) 222-5961, for information about previously approved alternative methods of compliance.

(d) Special flight permits will not be issued.

(e) The inspection and replacement, if necessary, shall be done in accordance with the specified portions of Eurocopter Alert Service Bulletin No. 05.00.52, applicable to Model SA-365 N1 and SA-365 N2 and N3 helicopters; No. 05.36, applicable to Model SA 366 G1 helicopters; and No. 05A013, applicable to Model EC-155B and B1 helicopters, dated February 15, 2006. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the National Archives and Records Administration (NARA). For information on the availability of this material at NARA, call 202-741-6030, or go to: http://www.archives.gov/federal_register/code_of_federal_regulations/ibr_locations.html.

(f) This amendment becomes effective on May 18, 2006.

Note: The subject of this AD is addressed in European Aviation Safety Agency (EASA) AD No. 2006-0051-E, dated February 20, 2006.

Issued in Fort Worth, Texas, on April 17, 2006.
David A. Downey,
Manager, Rotorcraft Directorate, Aircraft Certification Service.

[FR Doc. 06-4108 Filed 5-2-06; 8:45 am]

BILLING CODE 4910-13-P